DEPARTMENT OF TRANSPORTATION

Federal Aviation Administration

14 CFR Part 39

[Docket No. FAA-2012-0933; Directorate Identifier 2012-NM-107-AD; Amendment 39-17411; AD 2013-07-07]

RIN 2120-AA64

Airworthiness Directives; The Boeing Company Airplanes

AGENCY: Federal Aviation Administration (FAA), DOT.

ACTION: Final rule.

SUMMARY: We are adopting a new airworthiness directive (AD) for all The Boeing Company Model 737-600, -700, -700C, -800, -900, and -900ER series airplanes. This AD was prompted by reports of an incorrect procedure used to apply the wear and corrosion protective surface coating to attach pins of the horizontal stabilizer rear spar. This AD requires inspecting to determine the part number of the attach pins of the horizontal stabilizer rear spar, and replacing certain attach pins with new, improved attach pins. We are issuing this AD to prevent premature failure of the attach pins, which could cause reduced structural integrity of the horizontal stabilizer to fuselage attachment, resulting in loss of control of the airplane.

DATES: This AD is effective May 20, 2013.

The Director of the Federal Register approved the incorporation by reference of a certain publication listed in the AD as of May 20, 2013.

ADDRESSES: For service information identified in this AD, contact Boeing Commercial Airplanes, Attention: Data & Services Management, P.O. Box 3707, MC 2H-65, Seattle, WA 98124-2207; telephone 206-544-5000, extension 1; fax 206-766-5680; Internet https://www.myboeingfleet.com. You may review copies of the referenced service information at the FAA, Transport Airplane Directorate, 1601 Lind Avenue SW., Renton, WA. For information on the availability of this material at the FAA, call 425-227-1221.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Nancy Marsh, Aerospace Engineer, Airframe Branch, ANM-120S, FAA, Seattle Aircraft Certification Office, 1601 Lind Avenue SW., Renton, WA 98057-3356; phone: 425-917-6440; fax: 425-917-6590; email nancy.marsh@faa.gov.

SUPPLEMENTARY INFORMATION:

Discussion

We issued a notice of proposed rulemaking (NPRM) to amend 14 CFR part 39 to include an AD that would apply to the specified products. That NPRM published in the Federal Register on September 12, 2012 (77 FR 56170). That NPRM proposed to require inspecting to determine the part number of the attach pins of the horizontal stabilizer rear spar, and replacing certain attach pins with new, improved attach pins.

Comments

We gave the public the opportunity to participate in developing this AD. The following presents the comments received on the proposal (77 FR 56170, September 12, 2012) and the FAA's response to each comment.

Concurrence With NPRM (77 FR 56170, September 12, 2012)

Boeing concurs with the content of the proposed rule (77 FR 56170, September 12, 2012).

Request for Alternative Method of Compliance (AMOC) to Inspections Required by AD 2004-05-19, Amendment 39-13514 (69 FR 10921, March 9, 2004; Corrected April 13, 2004 (69 FR 19313))

Europe Airpost requested that a statement be included in the NPRM (77 FR 56170, September 12, 2012) that approves installation of the horizontal stabilizer rear spar attachment pins part number (P/N) 180A1612-7 and 180A1612-8 as an AMOC to the inspections required by AD 2004-05-19, Amendment 39-13514 (69 FR 10921, March 9, 2004; corrected April 13, 2004 (69 FR 19313)) provided that the special inspections specified in the Boeing maintenance planning data (MPD) document are performed.

We agree with the request. We have added paragraph (j) to this final rule to state that accomplishing the actions required by paragraphs (g) and (h) of this AD terminates the requirements of paragraphs (a), (b), (c), (d), and (e) of AD 2004-05-19 Amendment 39-13514 (69 FR 10921, March 9, 2004; corrected April 13, 2004 (69 FR 19313)), for rear spar attach pins only.

Request for Exclusions

Delta Air Lines (Delta) requested that we provide exclusions in paragraph (g) of the NPRM (77 FR 56170, September 12, 2012) for certain airplanes that may not be affected by the discrepant stabilizer pins. Delta stated that airplanes that were not delivered between August 1, 2006, and July 31, 2008, have not had the terminating action accomplished according to AD 2004-05-19, Amendment 39-13514 (69 FR 10921, March 9, 2004; corrected April 13, 2004 (69 FR 19313)), and did not have maintenance done in accordance with the MPD, would not need to be inspected. Delta also requested that we provide exclusions to paragraph (i) of the NPRM because spare pins having P/N 180A1612-3 and 180A1612-4 delivered by Boeing Spares before June 30, 2006, and after June 17, 2008, are not suspected of having unapproved surface coatings.

We disagree with the request to change paragraphs (g) and (i) in this final rule. Although Boeing has specified certain airplane delivery dates associated with the discrepant pins, as well as delivery dates for pins suspected to be discrepant and distributed as spare parts, other factors make identification of the affected airplanes difficult. Stabilizers are rotable components, and therefore stabilizer attach pins may be different from those delivered with the airplane. To assist operators in inspecting for the suspect pins, paragraph (g) of this final rule (as proposed in the NPRM (77 FR 56170, September 12, 2012)) allows for a records search to be used to confirm the part number of the rear spar attachment pin, if such a record search is conclusive. No change has been made to this final rule in this regard.

Request To Include AD 2004-05-19, Amendment 39-13514 (69 FR 10921, March 9, 2004; corrected April 13, 2004 (69 FR 19313))

Europe Airpost requested that we revise the NPRM (77 FR 56170, September 12, 2012) to include AD 2004-05-19, Amendment 39-13514 (69 FR 10921, March 9, 2004; corrected April 13, 2004 (69 FR 19313)), as a related AD in paragraph (b) of the NPRM. The commenter stated that the new AD will affect AD 2004-05-19 because attach pins having P/Ns 180A1612-3 and 180A1612-4 could also have been installed as a terminating action for AD 2004-05-19.

We agree with the commenter and have revised paragraph (b) of this final rule accordingly.

Request To Allow Re-Installation of Serviceable Attach Pins

Japan Airlines (JAL) requested that we revise the NPRM (77 FR 56170, September 12, 2012) to allow for re-installation of attach pins having P/N 180A1612-3 and 180A1612-4 that are found to be serviceable. JAL agrees that replacement of the attach pins would have to be done before 56,000 total flight cycles, but notes that routine maintenance inspections of the pins require pin removal prior to the 56,000 flight cycle threshold. JAL concluded that when these inspections are accomplished prior to that threshold, paragraphs (h) and (i) of the NPRM would prohibit re-installation of the pins, even if they are found to be serviceable.

We partially agree with the request. We agree that re-installation of the pins having P/Ns 180A1612-3 and 180A1612-4 that have been inspected in accordance with Special Structural Inspections of Section 9, “Airworthiness Limitations (AWLs) and Certification Maintenance Requirements (CMRs),” of Boeing 737-600/700/700C/800/900/900ER Maintenance Planning Data (MPD) Document D626A001-CMR, Revision 09, may be acceptable for compliance; however, the commenter did not state which revision of the MPD would be used. As numerous revisions of the MPD exist and many new revisions are released each year, this approval is most effectively accomplished using the procedures in paragraph (k) of this AD. No change has been made to the AD in this regard.

We have revised paragraph (h) of this AD to state that airplanes having line numbers 1 through 3534 inclusive having an attach pin P/N 180A1612-3 or 180A1612-4 must be replaced with a new attach pin P/N 180A1612-7 or 180A1612-8, respectively, prior to the accumulation of 56,000 total flight cycles on the pin, or within 3,000 flight cycles after the effective date of this AD, whichever occurs later.

STC Winglet Comment

Aviation Partners Boeing stated that the installation of winglets per STC ST00830SE (http://rgl.faa.gov/Regulatory_and_Guidance_Library/rgstc.nsf/0/408E012E008616A7862578880060456C?OpenDocument&Highlight=st00830se) does not affect the accomplishment of the manufacturer's service instructions.

We have added paragraph (c)(2) to this AD to state that installation of STC ST00830SE (http://rgl.faa.gov/Regulatory_and_Guidance_Library/rgstc.nsf/0/408E012E008616A7862578880060456C?OpenDocument&Highlight=st00830se) does not affect the ability to accomplish the actions required by this AD. Therefore, for airplanes on which STC ST00830SE is installed, a change in product AMOC approval request is not necessary to comply with the requirements of 14 CFR 39.17. For all other AMOC requests, the operator must request approval for an AMOC in accordance with the procedures specified in paragraph (k) of this AD.

Other Changes to the NPRM (77 FR 56170, September 12, 2012)

We have clarified paragraph (i)(1) of this AD to state that on certain airplanes installation of an attach pin having P/N 180A1612-3 or 180A1612-4 is not acceptable for compliance unless the actions required by paragraphs (g) and (h) of this AD are accomplished on that airplane.

Conclusion

We reviewed the relevant data, considered the comments received, and determined that air safety and the public interest require adopting the AD with the changes described previously and minor editorial changes. We have determined that these minor changes:

• Are consistent with the intent that was proposed in the NPRM (77 FR 56170, September 12, 2012) for correcting the unsafe condition; and

• Do not add any additional burden upon the public than was already proposed in the NPRM (77 FR 56170, September 12, 2012).

We also determined that these changes will not increase the economic burden on any operator or increase the scope of the AD.

Costs of Compliance

We estimate that this AD affects 1,050 airplanes of U.S. registry.

We estimate the following costs to comply with this AD:

Estimated Costs
Action | Labor cost | Parts cost | Cost per product | Cost on U.S. operators
Inspection and attach pin replacement | 39 work-hours × $85 per hour = $3,315 | Up to $6,312 | $9,627 | Up to $10,108,350.

According to the manufacturer, some of the costs of this AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2013-07-07 The Boeing Company: Amendment 39-17411; Docket No. FAA-2012-0933; Directorate Identifier 2012-NM-107-AD.

(a) Effective Date

This AD is effective May 20, 2013.

(b) Affected ADs

This AD affects certain requirements of AD 2004-05-19, Amendment 39-13514 (69 FR 10921, March 9, 2004; corrected April 13, 2004 (69 FR 19313)).

(c) Applicability

(1) This AD applies to all The Boeing Company Model 737-600, -700, -700C, -800, -900, and -900ER series airplanes, certificated in any category.

(2) Installation of Supplemental Type Certificate (STC) ST00830SE (http://rgl.faa.gov/Regulatory_and_Guidance_Library/rgstc.nsf/0/408E012E008616A7862578880060456C?OpenDocument&Highlight=st00830se) does not affect the ability to accomplish the actions required by this AD. Therefore, for airplanes on which STC ST00830SE is installed, a “change in product” alternative method of compliance (AMOC) approval request is not necessary to comply with the requirements of 14 CFR 39.17. For all other AMOC requests, the operator must request approval for an AMOC in accordance with the procedures specified in paragraph (k) of this AD.

(d) Subject

Joint Aircraft System Component (JASC)/Air Transport Association (ATA) of America Code 55, Stabilizers.

(e) Unsafe Condition

This AD was prompted by reports of an incorrect procedure used to apply the wear and corrosion protective surface coating to attach pins of the horizontal stabilizer rear spar. We are issuing this AD to prevent premature failure of the attach pins, which could cause reduced structural integrity of the horizontal stabilizer to fuselage attachment, resulting in loss of control of the airplane.

(f) Compliance

Comply with this AD within the compliance times specified, unless already done.

(g) Part Number (P/N) Inspection

For airplanes having line numbers 1 through 3534 inclusive: Before the accumulation of 56,000 total flight cycles, or within 3,000 flight cycles after the effective date of this AD, whichever occurs later, inspect to determine the part number of the attach pins of the horizontal stabilizer rear spar. A review of airplane maintenance records is acceptable in lieu of this inspection if the part number of the attach pin can be conclusively determined from that review.

(h) Replacement

If, during the inspection required by paragraph (g) of this AD, any horizontal stabilizer rear spar attach pin has P/N 180A1612-3 or 180A1612-4, prior to the accumulation of 56,000 total flight cycles on the pin, or within 3,000 flight cycles after the effective date of this AD, whichever occurs later, replace with a new attach pin having P/N 180A1612-7 or 180A1612-8, respectively, in accordance with the Accomplishment Instructions of Boeing Special Attention Service Bulletin 737-55-1093, dated April 9, 2012.

(i) Parts Installation Limitation and Prohibition

(1) For airplanes having line numbers 1 through 3534 inclusive: As of the effective date of this AD, no person may install an attach pin of the horizontal stabilizer rear spar having P/N 180A1612-3 or 180A1612-4 on any airplane; unless the actions required by paragraph (g) and (h) of this AD have been done on that airplane.

(2) For airplanes having line numbers 3535 and subsequent: As of the effective date of this AD, no person may install an attach pin of the horizontal stabilizer rear spar having P/N 180A1612-3 or 180A1612-4 on any airplane.

(j) Terminating Action for AD 2004-05-19, Amendment 39-13514 (69 FR 10921, March 9, 2004; corrected April 13, 2004 (69 FR 19313))

Accomplishment of the actions required by paragraphs (g) and (h) of this AD terminates the requirements of paragraphs (a), (b), (c), (d), and (e) of AD 2004-05-19, Amendment 39-13514 (69 FR 10921, March 9, 2004; corrected April 13, 2004 (69 FR 19313)) for the rear spar attach pins only.

(k) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA) that has been authorized by the Manager, Seattle ACO, to make those findings. For a repair method to be approved, the repair must meet the certification basis of the airplane, and the approval must specifically refer to this AD.

(l) Related Information

For more information about this AD, contact Nancy Marsh, Aerospace Engineer, Airframe Branch, ANM-120S, FAA, Seattle Aircraft Certification Office, 1601 Lind Avenue SW., Renton, WA 98057-3356; phone: 425-917-6440; fax: 425-917-6590; email nancy.marsh@faa.gov.

(m) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Boeing Special Attention Service Bulletin 737-55-1093, dated April 9, 2012.

(ii) Reserved.

(3) For service information identified in this AD, contact Boeing Commercial Airplanes, Attention: Data & Services Management, P.O. Box 3707, MC 2H-65, Seattle, WA 98124-2207; telephone 206-544-5000, extension 1; fax 206-766-5680; Internet https://www.myboeingfleet.com.

(4) You may view this service information at FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on March 28, 2013.
Ali Bahrami,
Manager, Transport Airplane Directorate, Aircraft Certification Service.

[FR Doc. 2013-08193 Filed 4-12-13; 8:45 am]

BILLING CODE 4910-13-P